DEPARTMENT OF STATE

[Public Notice 9223]

60-Day Notice of Proposed Information Collection: Request for Entry Into Children's Passport Issuance Alert Program

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATE(S): The Department will accept comments from the public up to October 16, 2015.

ADDRESSES: You may submit comments by any of the following methods:

• Web: Persons with access to the Internet may comment on this notice by going to www.Regulations.gov. You can search for the document by entering “Docket Number: DOS-2015-0042” in the search field. Then click the “Comment Now” button and complete the comment form.

• Email: RiversDA@state.gov.

• Mail: Send written comments to: U.S. Department of State, CA/OCS/PMO, SA-17, 10th Floor, Washington, DC 20036.

• Fax: 202-736-9111.

• Hand Delivery or Courier: U.S. Department of State, CA/OCS/PMO, 600 19th St. NW., 10th Floor, Washington, DC 20036.

You must include the DS form number (if applicable), information collection title, and the OMB control number in any correspondence.

FOR FURTHER INFORMATION CONTACT: Direct requests for additional information regarding the collection listed in this notice, including requests for copies of the proposed collection instrument and supporting documents, to Derek Rivers, Bureau of Consular Affairs, Overseas Citizens Services (CA/OCS/PMO), U.S. Department of State, SA-17, 10th Floor, Washington, DC 20036 or at RiversDA@state.gov.

SUPPLEMENTARY INFORMATION:

• Title of Information Collection: Request for Entry into Children's Passport Issuance Alert Program.

• OMB Control Number: 1405-0169.

• Type of Request: Extension.

• Originating Office: CA/OCS/PMO.

• Form Number: DS-3077.

• Respondents: Concerned parents or their agents, institutions, or courts.

• Estimated Number of Respondents: 6,000.

• Estimated Number of Responses: 6,000.

• Average Hours per Response: 30 minutes.

• Total Estimated Burden: 3,000 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the requests for information to be collected.

• Minimize the reporting burden on those who are to respond, including the use of automated collection techniques or other forms of information technology.

Please note that comments submitted in response to this Notice are public record. Before including any detailed personal information, you should be aware that your comments as submitted, including your personal information, will be available for public review.

Abstract of proposed collection: The information requested will be used to support entry of the name of a minor (an unmarried person under 18) into the Children's Passport Issuance Alert Program (CPIAP). CPIAP provides a mechanism for parents or other persons with legal custody of a minor to obtain information regarding whether the Department has received a passport application for the minor. This program was developed as a means to prevent international abduction of a minor or to help prevent other travel of a minor without the consent of a parent or legal guardian. If a minor's name and other identifying information has been entered into the CPIAP, when the Department receives an application for a new, replacement, or renewed passport for the minor, the application will be placed on hold for up to 60 days and the Office of Children's Issues will attempt to notify the requestor of receipt of the application. Form DS-3077 will be primarily submitted by a parent or legal guardian of a minor. 22 C.F.R § 51.28 which is a regulation that implements the statutory two parent consent requirement and prescribes the bases for an exception is one of the main legal authorities that this form is based from.

Methodology: The completed form DS-3077 can be filled out online and printed or completed by hand. The form must be manually signed and submitted to the Office of Children's Issues by email, fax or mail.

Dated: July 29, 2015.
Michelle Bernier-Toth,
Managing Director, Bureau of Consular Affairs, Department of State.

[FR Doc. 2015-20241 Filed 8-14-15; 8:45 am]

BILLING CODE 4710-06-P